DEPARTMENT OF TRANSPORTATION

Federal Aviation Administration

14 CFR Part 39

[Docket No. FAA-2013-0020; Directorate Identifier 2010-SW-107-AD; Amendment 39-17558; AD 2013-16-20]

RIN 2120-AA64

Airworthiness Directives; Eurocopter Deutschland GmbH (ECD) Helicopters

AGENCY: Federal Aviation Administration (FAA), DOT.

ACTION: Final rule.

SUMMARY: We are adopting a new airworthiness directive (AD) for ECD Model MBB-BK 117 C-2 helicopters. This AD requires inspecting the rigging of the power-boosted control system and, if there is a nonparallel gap between the rigging wedges and the inner sleeves, performing a rigging procedure. This AD was prompted by the discovery, during rigging of the main rotor controls, of movement of the longitudinal main rotor actuator piston after shut-down of the external pump drive. Such movement could cause incorrect rigging results. The actions of this AD are intended to prevent incorrect rigging results, which could impair freedom of movement of the upper controls and subsequent reduced control of the helicopter.

DATES: This AD is effective September 27, 2013.

The Director of the Federal Register approved the incorporation by reference of a certain document listed in this AD as of September 27, 2013.

ADDRESSES: For service information identified in this AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the foreign authority's AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Jim Grigg, Manager, FAA, Rotorcraft Directorate, Safety Management Group, 2601 Meacham Blvd., Fort Worth, TX 76137; telephone (817) 222-5110; email jim.grigg@faa.gov.

SUPPLEMENTARY INFORMATION:

Discussion

On April 22, 2013, at 78 FR 23696, the Federal Register published our notice of proposed rulemaking (NPRM), which proposed to amend 14 CFR part 39 to include an AD that would apply to Model MBB-BK 117 C-2 helicopters. The NPRM proposed to require inspecting the rigging of the power-boosted control system and, if there is a nonparallel gap between the rigging wedges and the inner sleeves, performing a rigging procedure. The proposed requirements were intended to prevent incorrect rigging results, which could impair freedom of movement of the upper controls and subsequent reduced control of the helicopter.

The NPRM was prompted by AD No. 2010-0248, dated November 26, 2010 (AD 2010-0248), issued by the European Aviation Safety Agency (EASA), which is the Technical Agent for the Member States of the European Union. EASA issued AD 2010-0248 to correct an unsafe condition for the ECD Model MBB-BK 117 C-2 helicopter. EASA advises that during rigging of the main rotor controls, it was discovered that the piston of the longitudinal main rotor actuator had moved after shut-down of the external pump drive.

Comments

We gave the public the opportunity to participate in developing this AD, but we did not receive any comments on the NPRM (78 FR 23696, April 22, 2013).

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

We do not require inserting temporary changes into the performance section of the Rotorcraft Flight Manual.

Related Service Information

ECD has issued Alert Service Bulletin ASB MBB BK117 C-2-67A-012, Revision 0, dated September 20, 2010 (ASB). The ASB specifies a one-time verification of the correct adjustment of the rigging of the main rotor controls and provides the corresponding test procedure. The ASB further provides an improved rigging procedure as a temporary revision to the ECD BK117C2 Aircraft Maintenance Manual. EASA classified this ASB as mandatory and issued AD 2010-0248 to ensure the continued airworthiness of these helicopters.

Costs of Compliance

We estimate that this AD will affect 108 helicopters of U.S. Registry.

We estimate that operators may incur the following costs in order to comply with this AD:

• $680 for 8 work hours per helicopter to inspect the main rotor control rigging at an average labor rate of $85 per work hour;

• No additional costs are associated with rigging adjustment, if necessary; and

• $73,440 for the total cost of the AD on U.S. operators.

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-16-20 Eurocopter Deutschland GmbH (ECD): Amendment 39-17558; Docket No. FAA-2013-0020; Directorate Identifier 2010-SW-107-AD.

(a) Applicability

This AD applies to Model MBB-BK 117 C-2 helicopters, certificated in any category.

(b) Unsafe Condition

This AD defines the unsafe condition as movement of the longitudinal main rotor actuator piston after shut-down of the external pump drive, during rigging of the main rotor controls, causing an incorrect rigging result. This condition could impair freedom of movement of the upper controls and subsequently reduce control of the helicopter.

(c) Effective Date

This AD becomes effective September 27, 2013.

(d) Compliance

You are responsible for performing each action required by this AD within the specified compliance time unless it has already been accomplished prior to that time.

(e) Required Actions

Within 300 hours time-in-service:

(1) Inspect the rigging of the power-boosted control system, referencing Figure 1 of Eurocopter Alert Service Bulletin ASB MBB BK117 C-2-67A-012, Revision 0, dated September 20, 2010 (ASB). Ensure the piston of the longitudinal actuator (right-hand side) is held in the fully extended position and the piston of the lateral actuator (left-hand side) is held in the fully retracted position against the mechanical stop. Also, ensure the gauge block is clamped between the sliding sleeve and the support tube.

(2) Insert the rigging wedges with the 25.4 degree (item 8 of Figure 1 of the ASB) and 19.5 degree (item 7 of Figure 1 of the ASB) markings in the “A” side of the guide grooves of the rigging device (item 3 of Figure 1 of the ASB).

(3) If the gap between the rigging wedges (items 7 and 8 of Figure 1 of the ASB) and the inner sleeves (item 9 of Figure 1 of the ASB) is closed, the rigging is correct.

(4) If there is a nonparallel gap between the rigging wedges (items 7 and 8 of Figure 1 of the ASB) and the inner sleeves (item 9 of Figure 1 of the ASB), the rigging is not correct. Perform a rigging procedure.

(f) Alternative Methods of Compliance (AMOCs)

(1) The Manager, Safety Management Group, FAA, may approve AMOCs for this AD. Send your proposal to: Jim Grigg, Manager, Rotorcraft Directorate, 2601 Meacham Blvd., Fort Worth, TX 76137, telephone (817) 222-5110, email Jim.Grigg@faa.gov.

(2) For operations conducted under 14 CFR part 119 operating certificate or under 14 CFR part 91, subpart K, we suggest that you notify your principal inspector, or lacking a principal inspector, the manager of the local flight standards district office or certificate holding district office before operating any aircraft complying with this AD through an AMOC.

(g) Additional Information

(1) For service information identified in this AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

(2) The subject of this AD is addressed in European Aviation Safety Agency (EASA) AD No. 2010-0248, dated November 26, 2010. You may view the EASA AD at http://www.regulations.gov in Docket No. FAA-2013-0020.

(h) Subject

Joint Aircraft Service Component (JASC) Code: 6710 Main Rotor Control.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin ASB MBB BK117 C-2-67A-012, Revision 0, dated September 20, 2010.

(ii) Reserved.

(3) For Eurocopter service information identified in this AD, contact American Eurocopter Corporation, 2701 N. Forum Drive, Grand Prairie, TX 75052, telephone (972) 641-0000 or (800) 232-0323, fax (972) 641-3775, or at http://www.eurocopter.com/techpub.

(4) You may view this service information that is incorporated by reference at http://www.regulations.gov in Docket No. FAA-2013-0020.

(5) You may view this service information that is incorporated by reference at the National Archives and Records Administration (NARA). For information on the availability of this material at NARA, call (202) 741-6030, or go to: http://www.archives.gov/federal-register/cfr/ibr-locations.html.

Issued in Fort Worth, Texas, on August 2, 2013.
Lance T. Gant,
Acting Manager, Rotorcraft Directorate, Aircraft Certification Service.

[FR Doc. 2013-19443 Filed 8-22-13; 8:45 am]

BILLING CODE 4910-13-P